DEPARTMENT OF STATE

[Public Notice 6435]

U.S. Department of State Advisory Committee on Private International Law: Working Group on Conflicts of Law

A Working Group on Conflicts of Law has been established under the Department of State Advisory Committee on Private International Law to consider issues relating to choice of law, applicable law and dispute resolution. This is not a meeting of the full Advisory Committee.

In the context of the Seventh Inter-American Specialized Conference on Private International Law (CIDIP-VII), the Committee on Juridical and Political Affairs of the Permanent Council of the Organization of American States (OAS) is carrying out work on consumer rights as part of its program on private law. Three proposals have been put forward: a Brazilian draft convention on applicable law, a Canadian draft model law on jurisdiction and applicable law, and a United States proposal in the form of legislative guidelines and model laws/rules to promote consumer redress mechanisms such as small claims tribunals, collective procedures, on-line dispute resolution, and government actions.

The United States is also considering whether to pursue ratification of the Inter-American Convention on the Law Applicable to International Contracts (known as the Mexico City Convention), which was adopted at the Fifth Inter-American Specialized Conference on Private International Law (CIDIP-V), and whether a possible protocol to that Convention on choice of law concerning consumer protection would be desirable. Other developments which may be relevant to work at the OAS include proposals at UNCITRAL for future work on on-line dispute resolution, proposals at the Hague Conference on Private International Law for work on a non-binding instrument on choice of law in business to business transactions, and the recently concluded Hague Convention on Choice of Court Agreements.

Accordingly, the Advisory Committee's Working Group on Conflicts of Law will hold a public meeting to obtain views on the three consumer protection proposals identified above and the Mexico City Convention.

Time and Place: The public meeting of the working group will take place at the Federal Trade Commission, 600 Pennsylvania Ave., NW., Room H-294, Washington, DC on December 10, 2008, from 10 a.m. EST to 4 p.m. EST. This date is necessary due to travel arrangements of the participants. If you are unable to attend the public meeting and would like to participate from a remote location, teleconferencing will be available.

Public Participation: Advisory Committee Working Group meetings are open to the public. Persons wishing to attend must contact Trisha Smeltzer at smeltzertk@state.gov or 202-776-8423 and provide their name, e-mail address, and affiliation(s). Please contact Ms. Smeltzer for additional meeting information, any of the documents referenced above, or dial-in information on the conference call. Persons who cannot attend or participate by conference call but who wish to comment on any of the topics referred to above are welcome to do so by e-mail to Michael Dennis at DennisMJ@state.gov.

Dated: November 24, 2008.
Keith Loken,
Assistant Legal Adviser, Office of Private International Law, Office of the Legal Adviser, Department of State.

[FR Doc. E8-28472 Filed 11-28-08; 8:45 am]

BILLING CODE 4710-08-P